FEDERAL ELECTION COMMISSION

11 CFR Parts 100, 106, 109, 110, and 300

[Notice 2024-18]

Political Party Rules II

AGENCY: Federal Election Commission.

ACTION: Notification of availability of petition for rulemaking.

SUMMARY: On June 26, 2024, the Federal Election Commission received a Petition for Rulemaking asking the Commission to revise existing rules applicable to state, district, and local committees of political parties. The Commission seeks comments on this Petition.

DATES: Comments must be submitted on or before September 30, 2024.

ADDRESSES: All comments must be in writing. Commenters are encouraged to submit comments electronically via the Commission's website at https://www.fec.gov/fosers/, reference REG 2024-07. Alternatively, comments may be submitted in paper form addressed to the Federal Election Commission, Attn.: Ms. Amy L. Rothstein, Assistant General Counsel for Policy, 1050 First Street NE, Washington, DC 20463 (U.S. mail) or 20002 (all other delivery services).

Each commenter must provide, at a minimum, his or her first name, last name, city, and state. All properly submitted comments, including attachments, will become part of the public record, and the Commission will make comments available for public viewing on the Commission's website and in the Commission's Public Records Office. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Ms. Amy L. Rothstein, Assistant General Counsel for Policy, or Mr. Joseph P. Wenzinger, Attorney, Office of General Counsel, (202) 694-1650 or (800) 424-9530.

SUPPLEMENTARY INFORMATION: On June 26, 2024, the Federal Election Commission received a Petition for Rulemaking (“Petition”) from the Minnesota Democratic Farmer-Labor Party and its Chair, Ken Martin (collectively, “Petitioners”), asking the Commission to amend various regulations applicable to state, district, and local committees of political parties.¹ The Petition “revokes” a previous petition for rulemaking submitted by the same Petitioners on June 15, 2016, “incorporate[s] . . . by reference” the issues raised in the 2016 petition, and highlights three “priority issues” for consideration by the Commission.²

¹ Petition for Rulemaking to Strengthen Political Parties (“Petition”), REG 2024-07 (June 26, 2024).

² Petition at 1-2. Documents concerning the Petitioners' 2016 petition for rulemaking are available on the Commission's website. See, e.g., Petition for Rulemaking to Strengthen Political Parties, REG 2016-03 (June 14, 2016) https://sers.fec.gov/fosers/showpdf.htm?docid=351550. On October 7, 2016, the Commission published a notification of availability in the Federal Register and solicited and received comments on the 2016 petition. See Political Party Rules, 81 FR 69721 (Oct. 7, 2016), https://sers.fec.gov/fosers/showpdf.htm?docid=353435.

First, Petitioners ask the Commission to amend 11 CFR 300.33(d)(3) by omitting the phrase “Federal election activities.” Section 300.33(d)(3) applies to salaries, wages, and fringe benefits paid for employees of state, district, or local party committees or organizations. It provides that “employees who spend none of their compensated time in a given month on Federal election activities or on activities in connection with a Federal election may be paid entirely with funds that comply with State law.” ³

³ Id. § 300.33(d)(3).

Second, Petitioners ask the Commission to reconsider and revise the definitions of “voter registration activity” and “get-out-the-vote activity” at 11 CFR 100.24(a)(2) and (3). Section 100.24(a)(2) defines “voter registration activity” to include, among other things, “[e]ncouraging or urging potential voters to register to vote,” “[p]reparing and distributing information about registration and voting,” and “[a]ny other activity that assists potential voters to register to vote.” Section 100.24(a)(3) defines “get-out-the-vote activity” to include, among other things, “[e]ncouraging or urging potential voters to vote,” “informing potential voters” about “[t]imes when polling places are open” and the “location of particular polling places,” and “[a]ny other activity that assists potential voters to vote.”

Third, Petitioners ask the Commission to codify a “modernized standard” to determine when volunteer activities related to mailings by state or local parties comply with the Act's “volunteer mailing exemption.” ⁴ Sections 100.87 and 100.147 of the Commission's regulations provide that the “payment by a state or local committee of a political party of the costs of campaign materials . . . used by such committee in connection with volunteer activities on behalf of any nominee(s) of such party” is not a contribution or expenditure if certain conditions are met.⁵

⁴ See 52 U.S.C. 30101(8)(B)(ix), (9)(B)(viii); 11 CFR 100.87, 100.147.

⁵ 11 CFR 100.87 and 100.147 (implementing 52 U.S.C. 30101(8)(B)(ix) and (9)(B)(viii)).

The Petition also incorporates and attaches several documents, including Petitioners' 2016 petition. The 2016 petition asked the Commission to consider additional regulatory changes previously proposed in an agenda document presented at the Commission's Open Meeting on October 29, 2015.⁶ These proposed changes included (1) allowing political parties “to discuss issue advertisements with candidates,” “republish parts of candidate materials in party materials,” and “distribute volunteer campaign materials without triggering coordination limits,” ⁷ (2) “[e]xpand[ing] political party freedom to engage in volunteer activities such as volunteer mail drives, phone banks, and literature distribution,” ⁸ and (3) modifying the definition of “Federal election activity” to permit “political parties to register voters and urge citizens to vote on behalf of state and local candidates free from FEC regulation” and “to employ people to engage in state and local get-out-the-vote activities with state funds.” ⁹

⁶ See Petition at 18-19 (attaching Commission Agenda Document No. 15-54-A, Regulatory Relief for Political Parties, Commissioner Lee Goodman (Oct. 20, 2015), https://www.fec.gov/resources/updates/agendas/2015/mtgdoc_15-54-a.pdf).

⁷ See 11 CFR 109.37.

⁸ See id. §§ 100.87, 100.147.

⁹ See id. § 100.24.

The Commission seeks comments on the Petition. The public may inspect the Petition on the Commission's website at https://www.fec.gov/fosers.

The Commission will not consider the Petition's merits until after the comment period closes. The Commission will consider the Petition and any comments that it receives before deciding whether to initiate a rulemaking. The Commission will publish the results of its decision in the Federal Register.

Dated: July 25, 2024.
On behalf of the Commission,
Sean J. Cooksey,
Chairman, Federal Election Commission.

[FR Doc. 2024-16873 Filed 7-31-24; 8:45 am]

BILLING CODE 6715-01-P